FEDERAL COMMUNICATIONS COMMISSION

[23202]

Deletion of Item From April 22, 2021 Open Meeting

April 21, 2021.

The following item has been adopted by the Commission and deleted from the list of items scheduled for consideration at the Thursday, April 22, 2021, Open Meeting. The item was previously listed in the Commission's Notice of Thursday, April 15, 2021.

7 | MEDIA | Title: Imposing Application Cap in Upcoming NCE FM Filing Window (MB Docket No. 20-343). Summary: The Commission will consider a Public Notice to impose a limit of ten applications filed by any party in the upcoming 2021 filing window for new noncommercial educational FM stations.

* * * * *

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Additional information concerning this meeting may be obtained from the Office of Media Relations, (202) 418-0500. Audio/Video coverage of the meeting will be broadcast live with open captioning over the internet from the FCC Live web page at www.fcc.gov/live.

Marlene Dortch,
Secretary.

[FR Doc. 2021-08799 Filed 4-27-21; 8:45 am]

BILLING CODE 6712-01-P